ENVIRONMENTAL PROTECTION AGENCY

40 CFR Part 52

[MA-083-7213a; A-1-FRL-7374-9]

Approval and Promulgation of Air Quality Implementation Plans; Massachusetts; Volatile Organic Compound Reasonably Available Control Technology (RACT) Plans and Regulation

AGENCY: Environmental Protection Agency (EPA).

ACTION: Direct final rule.

SUMMARY: EPA is approving several State Implementation Plan (SIP) revisions submitted by the Commonwealth of Massachusetts. These revisions establish reasonably available control technology (RACT) requirements for major volatile organic compound (VOC) sources. The intended effect of this action is to approve these requirements into the Massachusetts SIP. EPA is taking this action in accordance with the Clean Air Act (CAA).

DATES: This direct final rule will be effective December 3, 2002, unless EPA receives relevant adverse comments by November 4, 2002. If EPA receives relevant adverse comments, we will publish a timely withdrawal of the direct final rule in the Federal Register informing the public that the rule will not take effect.

ADDRESSES: Comments may be mailed to David Conroy, Unit Manager, Air Quality Planning, Office of Ecosystem Protection (mail code CAQ), U.S. Environmental Protection Agency, EPA New England Regional Office, One Congress Street, Suite 1100, Boston, MA 02114-2023. Copies of the documents relevant to this action are available for public inspection during normal business hours, by appointment at the Office Ecosystem Protection, U.S. Environmental Protection Agency, EPA New England Regional Office, One Congress Street, 11th floor, Boston, MA; Air and Radiation Docket and Information Center, U.S. Environmental Protection Agency, Room M-1500, 401 M Street, (Mail Code 6102), SW., Washington, DC [the Air and Radiation Docket and Information Center, U.S. Environmental Protection Agency, Room M-1500, 401 M Street, (Mail Code 6102), SW., Washington, DC 20460 will be closed to the public from close of business Friday, August 9, 2002 until it re-opens Tuesday, August 27, 2002 at its new location—Air and Radiation Docket and Information Center, U.S. Environmental Protection Agency, Room B-108, 1301 Constitution Avenue, (Mail Code 6102T) NW., Washington DC 20460]; and Division of Air Quality Control, Department of Environmental Protection, One Winter Street, 8th Floor, Boston, MA 02108.

FOR FURTHER INFORMATION CONTACT: Anne Arnold, (617) 918-1047.

SUPPLEMENTARY INFORMATION: This section is organized as follows:

What Action Is EPA Taking?

What are the Relevant Clean Air Act Requirements?

What is a Control Techniques Guideline (CTG)?

How has Massachusetts Addressed the New CTG Categories?

What is EPA's Response to Massachusetts' Submittals for the New CTG Categories?

What are the Regulations and Plan Approvals Massachusetts Submitted?

Why is EPA Approving Massachusetts' Regulations and Plan Approvals?

What is the Process for EPA to Approve These SIP Revisions?

What Action Is EPA Taking?

EPA is approving VOC RACT plan approvals for four facilities in eastern Massachusetts. EPA is also approving Massachusetts' VOC RACT regulation 310 CMR 7.18 (17) as it applies to the Boston-Lawrence-Worcester (eastern Massachusetts) ozone nonattainment area. In addition, EPA is also approving negative declarations Massachusetts submitted for certain VOC source categories and is determining that Massachusetts has met the CAA VOC RACT requirements for the aerospace coating and wood furniture manufacturing source categories through a combination of measures that are already federally enforceable.

What Are the Relevant Clean Air Act Requirements?

Sections 182(b)(2) and 184(b) of the Clean Air Act contain the requirements relevant to today's action. 42 U.S.C. sections 7511a(b)(2) and 7511c(b). Section 182(b)(2) requires states to adopt RACT rules for all areas designated nonattainment for ozone and classified as moderate or above. There are three parts to the section 182(b)(2) RACT requirement: (1) RACT for sources covered by an existing Control Techniques Guideline (CTG)—i.e., a CTG issued prior to the enactment of the 1990 amendments to the CAA; (2) RACT for sources covered by a post-enactment CTG; and (3) all major sources not covered by a CTG, i.e., non-CTG sources.

Pursuant to the CAA Amendments of 1990, all of Massachusetts was classified as serious nonattainment for ozone. Specifically, the following two areas were designated as serious ozone areas: the Boston-Lawrence-Worcester (or eastern Massachusetts) area; and the Springfield (or western Massachusetts) area. See 56 FR 56694 (Nov. 6, 1991). These areas were, thus, subject to the section 182(b)(2) RACT requirement.

In addition, Massachusetts is located in the Northeast Ozone Transport Region (OTR). The Commonwealth is, therefore, subject to section 184(b) of the CAA. Section 184(b) requires that RACT be implemented in the entire state for all VOC sources covered by a CTG issued before or after the enactment of the CAA Amendments of 1990 and for all major VOC sources (defined as 50 tons per year for sources in the OTR).

What Is a Control Techniques Guideline (CTG)?

A CTG is a document EPA issues which establishes a “presumptive norm” for RACT for a specific VOC source category. Under the pre-amended CAA, EPA issued CTG documents for 29 categories of VOC sources. Section 183 of the CAA requires that EPA issue 13 new CTGs. Appendix E of the General Preamble of Title I (57 FR 18077) lists the categories for which EPA plans to issue new CTGs.

On November 15, 1993, EPA issued a CTG for Synthetic Organic Chemical Manufacturing Industry (SOCMI) Distillation Operations and Reactor Processes. Also, on August 27, 1996, EPA issued a CTG for shipbuilding and repair operations. On May 26, 1996, EPA issued a CTG for wood furniture finishing operations. Furthermore, on March 27, 1998, EPA issued a CTG for aerospace coating operations.

How Has Massachusetts Addressed the New CTG Categories?

In response to the requirements to adopt RACT for all sources covered by a new CTG, Massachusetts submitted negative declarations to EPA for the shipbuilding and repair operations and the SOCMI reactor processes CTG categories. Through these negative declarations, Massachusetts is confirming that there are no sources in the Commonwealth that would be subject to a rule for these categories.

In addition, for the SOCMI distillation processes CTG category, Massachusetts stated in a letter, dated April 16, 1999, that Solutia Incorporated, in Springfield, is subject to this CTG. The letter also states that VOC emissions at this facility are currently controlled by a pollution control system with a required control efficiency of more than 85 percent and that this control requirement was determined to be best available control technology (BACT) in a federally enforceable plan approval issued pursuant to 310 CMR 7.02.

Furthermore, for the wood products CTG category, Massachusetts submitted a letter, dated July 24, 2002, stating that there are six facilities in Massachusetts that exceed the 25 ton per year (tpy) applicability threshold for the wood furniture CTG. Three of these facilities (Athol Table, Mark Richey Woodwork, and Adden Furniture) are subject to 310 CMR 7.18(23), “Wood Products Surface Coating.” This rule applies to 50 tpy facilities and was approved into the Massachusetts SIP on September 3, 1999 (64 FR 48297). In addition, one of the six facilities, Nichols and Stone, is subject to 310 CMR 7.18(17), “Reasonable Available Control Technology.” RACT was determined for this facility several years prior to the issuance of EPA's wood furniture CTG and was submitted to EPA as a single source SIP revision on July 19, 1993. EPA approved this SIP revision on January 6, 1995 (60 FR 2017). Also, Massachusetts has issued the remaining two wood furniture facilities (Saloom Furniture and Eureka Manufacturing) federally enforceable BACT plan approvals pursuant to 310 CMR 7.02. These BACT plan approvals contain the same emission limitations as those included in the wood furniture CTG.

Finally, for the aerospace CTG, Massachusetts submitted a letter, dated July 24, 2002, stating that there are two facilities in Massachusetts that exceed the 25 tpy applicability threshold of the aerospace CTG. They are General Electric in Lynn and Raytheon in Lowell. The coating operations at these two facilities are covered by Massachusetts' miscellaneous metal parts and products coating regulation, 310 CMR 7.18(11). Also, the degreasing emissions at these two facilities are covered by Massachusetts' degreasing regulation 310 CMR 7.18(8). Both 310 CMR 7.18(11) and 310 CMR 7.18(8) have been approved into the Massachusetts SIP. See 58 FR 34911 (June 30, 1993).

What Is EPA's Response to Massachusetts' Submittals for the New CTG Categories?

EPA is approving Massachusetts' negative declarations as meeting the CAA section 182(b)(2) and section 184(b) requirements, as applicable, for the shipbuilding and repair operations and SOCMI reactor processes CTG categories. However, if evidence is submitted by November 4, 2002 that there are existing sources within Massachusetts that would be covered by the CTGs for these same categories,¹ EPA would consider such comments adverse and we would withdraw this approval action on that negative declaration.

¹ The shipbuilding CTG applies to facilities that emit 50 tons of VOC or more per year. The applicability of the SOCMI reactors CTG is more complicated as it is determined on a per vent basis. For complete details on determining applicability for this CTG, see pages D-2 and D-3 of “Control of Volatile Organic Compound Emissions from Reactor Processes and Distillation Operations Processes in the Synthetic Organic Chemical Manufacturing Industry,” EPA-450/4-91-031, August 1993.

For the SOCMI reactor distillation operations CTG category, the only source in Massachusetts subject to this CTG is meeting an 85 percent control requirement which was determined to be BACT in a federally enforceable plan approval. EPA agrees that Massachusetts has met the VOC RACT requirements for this source category.

For the wood furniture and aerospace CTG categories, Massachusetts has imposed requirements on the six facilities that are subject to the wood furniture CTG and on the two facilities that are subject to the aerospace CTG through a combination of measures (i.e., VOC regulations and BACT and RACT plan approvals) that are already federally enforceable. EPA has evaluated these measures and has found that they are generally consistent with the applicable CTGs. Therefore, EPA is approving these measures as meeting RACT for the aerospace and wood furniture CTG categories. The specific requirements imposed on the aerospace and wood furniture facilities and EPA's evaluation of these requirements are detailed in a memorandum dated August 20, 2002, entitled “Technical Support Document—Massachusetts—VOC RACT” (TSD). The TSD, as well as the various plan approvals on which EPA is relying to enforce RACT, are available in the docket supporting this action.

What Are the Regulations and Plan Approvals Massachusetts Submitted?

On February 17, 1993, Massachusetts submitted 310 CMR 7.18(17) “Reasonable Available Control Technology.” In addition, Massachusetts subsequently submitted SIP revisions for the following four facilities which are subject to 310 CMR 7.18(17):

• Barnet Corporation of Peabody;

• Rex Finishing Incorporated of Peabody;

• Norton Company of Worcester; and

• Gillette Company's Andover Manufacturing Center.

Massachusetts' regulation and the plan approvals for the four facilities listed above are discussed in more detail below.

310 CMR 7.18(17), Reasonable Available Control Technology

This regulation describes a process by which RACT can be defined, but does not specifically define RACT for each source applicable to the regulation. Therefore, in order to receive full approval, Massachusetts must define, and EPA must approve, RACT for all of the sources that are subject to 310 CMR 7.18(17). EPA previously approved this rule for the Springfield ozone nonattainment area. See 64 FR 48297 (September 3, 1999). In this rulemaking, EPA noted that there were sources in the eastern Massachusetts ozone nonattainment area for which EPA had not yet approved RACT plans and that EPA would address 310 CMR 7.18(17) for the eastern Massachusetts area in a separate rulemaking, along with the case-specific RACT determinations. Massachusetts has defined RACT for Barnet, Rex Finishing, Gillette, and Norton as described below.

Barnet and Rex Finishing

On April 16, 1999, Massachusetts submitted VOC RACT plan approvals for Barnet and Rex Finishing to EPA as a SIP revision. At these facilities, VOCs are emitted from leather finishing operations. Massachusetts determined that implementing low VOC coatings and certain work practice and equipment standards represent RACT for Barnet and Rex Finishing. The plan approvals require these facilities to meet specific emission limitations and to maintain daily records in order to demonstrate compliance with these limits.

Gillette

On October 7, 1999, Massachusetts submitted a VOC RACT plan approval for Gillette to EPA as a SIP revision. Gillette manufactures shaving cream and deodorants at its Andover, Massachusetts facility. The majority of VOC emissions from the facility are hydrocarbon propellants (e.g., isobutane) and ethanol solvents from aerosol propellant filling. The plan approval requires Gillette to use through the valve filling (TTV) for all products that can be successfully TTV-filled. TTV-filling is currently recognized as the lowest-emitting aerosol filling process available. The plan approval also caps VOC emissions to a maximum of 150 tons per rolling 12 month calendar period and 50 tons per month. Additionally, the plan approval requires Gillette to implement a leak detection and repair program. Finally, the plan approval also sets recordkeeping, reporting, and testing requirements.

Norton

On October 7, 1999, Massachusetts submitted a VOC RACT plan approval for Norton Company to EPA as a SIP revision. Norton is a manufacturer of abrasive products, ceramic grinding wheels, and high performance refractories. VOCs are emitted in the manufacture of these products. Norton has reduced its VOC emissions by using material substitution, reformulation, emission controls, good housekeeping and better operating practices. The plan approval requires Norton to meet several enforceable short and long term RACT limits which are specified and tracked by business unit or similar unit operation. In addition, the plan approval also sets the appropriate recordkeeping, reporting, and testing requirements in order to demonstrate compliance with these emission limits.

In addition to the SIP revisions submitted for the four facilities discussed above, Massachusetts also submitted documentation regarding two other facilities subject to 310 CMR 7.18(17), namely Polaroid of Waltham and Globe Manufacturing of Fall River. The VOC RACT plan approval submitted for Polaroid on April 16, 1999 was subsequently superseded by two federally enforceable BACT plan approvals that were issued to Polaroid on December 22, 1999 and September 15, 2000. When taken together, these two BACT plan approvals cover all of the processes that were included in the previously issued RACT plan approval. In addition, the BACT plan approvals require emission reductions above and beyond those required by the RACT plan. Therefore, in a letter dated July 24, 2002, the Massachusetts DEP withdrew its April 16, 1999 SIP revision request for Polaroid. In addition, Massachusetts submitted documentation showing that the three VOC emitting processes at Globe (the reaction spin process; the dry spin process; and the rubber fiber process) are subject to federally enforceable requirements contained in two BACT plan approvals issued to the facility on June 6, 1996 and November 24, 1997.

Why Is EPA Approving Massachusetts' Regulations and Plan Approvals?

EPA has evaluated the plan approvals submitted for the facilities listed above and has found that these plan approvals are consistent with EPA guidance and impose RACT at these facilities. Therefore, EPA is approving the plan approvals for Barnet, Rex, Gillette, and Norton into the Massachusetts SIP. EPA has also evaluated Massachusetts 310 CMR 7.18(17) and has found that this regulation is generally consistent with EPA guidance, with the exception discussed above, and requires RACT to be developed at the facilities covered by the CAA. Since Massachusetts has, however, adequately addressed all of the applicable sources in the eastern Massachusetts serious ozone nonattainment area required to have RACT, EPA is approving this regulation as meeting the CAA requirements for this area. Finally, EPA has evaluated BACT plan approvals issued under 310 CMR 7.02 and has determined that they impose a level of control at least equivalent to RACT.

The specific requirements of the plan approvals and of Massachusetts 310 CMR 7.18(17) and EPA's evaluation of these requirements are detailed in the TSD.

Although EPA is not incorporating the BACT plan approvals issued under 310 CMR 7.02 into the SIP, because they are already federally enforceable under the SIP-approved section 7.02, these plan approvals are available for inspection in the docket supporting this action.

What Is the Process for EPA To Approve These SIP Revisions?

The EPA is publishing this rule without prior proposal because the Agency views this as a noncontroversial amendment and anticipates no adverse comments. However, in the proposed rules section of this Federal Register publication, EPA is publishing a separate document that will serve as the proposal to approve the SIP revision should EPA receive relevant adverse comments. This action will be effective December 3, 2002 without further notice unless the EPA receives relevant adverse comments by November 4, 2002.

If the EPA receives such comments, then EPA will publish a document withdrawing the final rule and informing the public that the rule will not take effect. EPA will then address all public comments in a subsequent final rule based on the proposed rule. The EPA will not institute a second comment period. Parties interested in commenting should do so at this time. If EPA receives no such comments, the public is advised that this rule will be effective on December 3, 2002 and EPA will take no further action on the proposed rule. Please note that if EPA receives adverse comment on an amendment, paragraph, or section of this rule and if that provision may be severed from the remainder of the rule, EPA may adopt as final those provisions of the rule that are not the subject of an adverse comment.

Final Action: EPA is approving the VOC RACT plan approvals for Barnet, Rex Finishing, Gillette Company, and Norton Company. EPA is also approving Massachusetts' VOC RACT regulation 310 CMR 7.18 (17) as it applies to the eastern Massachusetts ozone nonattainment area. In addition, EPA is approving Massachusetts' negative declarations for the shipbuilding and repair operations and SOCMI reactor processes CTG categories. EPA is also approving the Solutia BACT permit as meeting the CAA VOC RACT requirements for the SOCMI distillation reactors category. Finally, EPA is approving a combination of already federally enforceable measures (namely, the VOC RACT regulations and the RACT and BACT plan approvals discussed above) as meeting the CAA VOC RACT requirements for the aerospace and wood furniture manufacturing operations CTG categories.

III. Administrative Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the states, on the relationship between the national government and the states, or on the distribution of power and responsibilities among the various levels of government, as specified in Executive Order 13132 (64 FR 43255, August 10, 1999), because it merely approves a state rule implementing a federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the state to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.)

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. section 804(2).

Under section 307(b)(1) of the Clean Air Act, petitions for judicial review of this action must be filed in the United States Court of Appeals for the appropriate circuit by December 3, 2002. Interested parties should comment in response to the proposed rule rather than petition for judicial review, unless the objection arises after the comment period allowed for in the proposal. Filing a petition for reconsideration by the Administrator of this final rule does not affect the finality of this rule for the purposes of judicial review nor does it extend the time within which a petition for judicial review may be filed, and shall not postpone the effectiveness of such rule or action. This action may not be challenged later in proceedings to enforce its requirements. See section 307(b)(2).

List of Subjects in 40 CFR Part 52

Environmental protection, Air pollution control, Incorporation by reference, Ozone, Volatile organic compounds.

Dated: September 3, 2002.
Robert W. Varney,
Regional Administrator, EPA New England.

1. The authority citation for part 52 continues to read as follows:

Authority: 42 U.S.C. 7401 et seq.

Subpart W—Massachusetts

2. Section 52.1120 is amended by adding paragraph (c)(129) to read as follows:

§ 52.1120 Identification of plan.

* * * * *

(c) * * *

(129) Revisions to the State Implementation Plan submitted by the Massachusetts Department of Environmental Protection on February 17, 1993, April 16, 1999, and October 7, 1999.

(i) Incorporation by reference.

(A) 310 CMR 7.18(17) “Reasonable Available Control Technology,” as it applies to the eastern Massachusetts ozone nonattainment area, effective in the Commonwealth of Massachusetts on February 12, 1993.

(B) Plan Approval issued by the Massachusetts Department of Environmental Protection to the Gillette Company Andover Manufacturing Plant on June 17, 1999.

(C) Plan Approval issued by the Massachusetts Department of Environmental Protection to Norton Company on August 5, 1999 and letter from the Massachusetts Department of Environmental Protection, dated October 7, 1999, identifying the effective date of this plan approval.

(D) Plan Approval issued by the Massachusetts Department of Environmental Protection to Rex Finishing Incorporated on May 10, 1991 and letter from the Massachusetts Department of Environmental Protection, dated April 16, 1999, identifying the effective date of this plan approval.

(E) Plan Approval issued by the Massachusetts Department of Environmental Protection to Barnet Corporation on May 14, 1991.

(ii) Additional materials.

(A) Letter from the Massachusetts Department of Environmental Protection, dated April 16, 1999, submitting negative declarations for certain VOC source categories.

(B) Letter from the Massachusetts Department of Environmental Protection, dated July 24, 2002, discussing wood furniture manufacturing and aerospace coating requirements in Massachusetts.

(C) 310 CMR 7.02 BACT plan approvals issued by the Massachusetts Department of Environmental Protection to Solutia, Saloom Furniture, Eureka Manufacturing, Moduform, Polaroid, and Globe.

* * * * *

3. In § 52.1167, Table 52.1167 is amended by adding new entries to existing state citation for 310 CMR 7.18(17).

§ 52.1167 EPA—approved Massachusetts State regulations.

* * * * *

Table 52.1167—EPA-Approved Massachusetts Regulations
State citation | Title/Subject | Date submitted by State | Date approved by EPA | Federal Register citation | 52.1120(c) | Comments/unapproved sections
* * * * * * *
310 CMR 7.18(17) | Reasonable Available Control Technology | 2/17/93 | 10/4/02 | [Insert FR citation from published date] | 129 | Approves VOC RACT requirements for the eastern Massachusetts ozone nonattainment area. (These requirements were previously approved for the western Massachusetts ozone nonattainment area.)
310 CMR 7.18(17) | Reasonable Available Control Technology | 10/7/99 | 10/4/02 | [Insert FR citation from published date] | 129 | VOC RACT plan approval for Gilette.
310 CMR 7.18(17) | Reasonable Available Control Technology | 10/7/99 | 10/4/02 | [Insert FR citation from published date] | 129 | VOC RACT plan approval for Norton.
310 CMR 7.18(17) | Reasonable Available Control Technology | 4/16/99 | 10/4/02 | [Insert FR citation from published date] | 129 | VOC RACT plan approval for Rex.
310 CMR 7.18(17) | Reasonable Available Control Technology | 4/16/99 | 10/4/02 | [Insert FR citation from published date] | 129 | VOC RACT plan Available for Barnet.
* * * * * * *

[FR Doc. 02-25158 Filed 10-3-02; 8:45 am]

BILLING CODE 6560-50-P